DEPARTMENT OF TRANSPORTATION

Federal Transit Administration

[Docket No. FTA-2015-0030]

Award Management Requirements: Availability of Final Circular

AGENCY: Federal Transit Administration (FTA), DOT.

ACTION: Notice of availability of final circular.

SUMMARY: The Federal Transit Administration (FTA) has placed in the docket and on its Web site guidance in the form of FTA Circular 5010.1E, “Award Management Requirements,” to facilitate implementation of FTA's assistance programs. The final Circular updates the “Grant Management Requirements” Circular 5010.1D to reflect various changes in the law, as well as FTA's transition to a new electronic award management system.

DATES: The effective date of the Circular is February 13, 2017.

FOR FURTHER INFORMATION, CONTACT: For program matters, contact Pamela A. Brown, FTA Office of Program Management, at (202) 493-2503, or pamela.brown@dot.gov. For legal matters, contact Linda W. Sorkin, FTA Attorney Advisor, Office of Chief Counsel, at (202) 366-0959 or linda.sorkin@dot.gov.

SUPPLEMENTARY INFORMATION:

Availability of Final Circular

This notice provides a summary of the final changes to the Award Management Requirements Circular and responds to comments received on the proposed Circular. The final Circular itself is not included in this notice; instead, an electronic version may be found on FTA's Web site, at www.transit.dot.gov, and in the docket, at www.regulations.gov. Paper copies of the final Circular may be obtained by contacting FTA's Administrative Services Help Desk, at (202) 366-4865.

Table of Contents

I. Overview

II. Chapter-by-Chapter Analysis

A. General Comments

B. Chapter I—Introduction and Background

C. Chapter II—Circular Overview

D. Chapter III—Administration of the Award

E. Chapter IV—Management of the Award

F. Chapter V—FTA Oversight

G. Chapter VI—Financial Management

H. Appendices

I. Overview

FTA is updating its Award Management Requirements Circular (formerly “Grant Management Requirements” Circular) to incorporate changes to FTA's programs resulting from enactment of FTA's most recent authorizing legislation, the Fixing America's Surface Transportation (FAST) Act (Pub. L. 114-94, Dec. 4, 2015), as well as the Moving Ahead for Progress in the 21st Century Act (MAP-21) (Pub. L. 112-141, July 6, 2012). In addition, the final Circular incorporates Department of Transportation (DOT) regulations, “Uniform Administrative Requirements, Cost Principles, and Audit Requirements for Federal Awards,” 2 CFR part 1201, and changes in the terms as used in FTA's new electronic award management system, the Transit Award Management System (TrAMS).

This notice provides a summary of changes to FTA Circular 5010.1D, “Grant Management Requirements,” and addresses comments received in response to the February 29, 2016, Federal Register notice of proposed circular and request for comments (81 FR 10358). The final Circular 5010.1E, “Award Management Requirements” becomes effective on February 13, 2017 and supersedes Circular 5010.1D.

On December 26, 2014, U.S. DOT adopted the Office of Management and Budget (OMB) regulatory guidance, “Uniform Administrative Requirements, Cost Principles, and Audit Requirements for Federal Awards,” (Uniform Guidance), 2 CFR part 200, now incorporated by reference in U.S. DOT regulations, 2 CFR part 1201. The Uniform Guidance streamlines and adds to the guidance formerly found in eight OMB Circulars that have been superseded by 2 CFR part 200. While 2 CFR part 1201 adopts most of the Uniform Guidance, part 1201 does contain several DOT-specific provisions.

U.S. DOT regulations, 2 CFR part 1201, apply to an FTA award and any amendments thereto signed by an authorized FTA official on or after December 26, 2014. These regulations supersede 49 CFR part 18, “Uniform Administrative Requirements for Grants and Cooperative Agreements to State and Local Governments,” and 49 CFR part 19, “Uniform Administrative Requirements for Grants and Agreements with Institutions of Higher Education, Hospitals, and Other Non-Profit Organizations,” except that Grants and Cooperative Agreements executed before December 26, 2014, continue to be subject to 49 CFR parts 18 and 19 as in effect on the date of such Grants or Cooperative Agreements.

In addition to addressing changes to federal law, the final Circular reflects terminology changes for consistency with FTA's new electronic award management system, TrAMS. The Circular also clarifies FTA's requirements and processes, includes FTA policies, and restructures FTA Circular 5010.1D, “Grant Management Requirements.” The final Circular applies to Grants and Cooperative Agreements when program-specific requirements are not addressed in an FTA program-specific Circular.

II. Chapter-by-Chapter Analysis

A. General Comments

Approximately 71 commenters provided feedback to the docket in response to the proposed Award Management Requirements Circular, including providers of public transportation, State Departments of Transportation, bus and bus part manufacturers, members of Congress, industry associations, and individuals.

Generally, commenters were supportive of FTA's efforts to update this Circular. Several commenters suggested the award management process should be streamlined, with Activity Line Items (ALIs) as general as possible while still meeting FTA's oversight needs. Commenters suggested that administrative staff time to receive and then manage Awards is significant, given the specificity of information required, and that specific ALIs and scope codes do not ensure better oversight or stronger adherence to federal law. Commenters suggested that Grant Agreements and Cooperative Agreements simply provide a “general understanding of the project” in place of the specific detail required currently. FTA did not propose any changes to the ALI and scope codes as the level of information is necessary to define what is being funded and to report on program activities.

Commenters further suggested that, in particular for states, FTA should approach “Administration of Award” at the recipient level, giving states more flexibility to define projects for subrecipients over the course of implementing an Award. In response, FTA's practice is to approach Administration of Award at the recipient level. States and designated recipients are required to have a State or Program Management Plan and manage subrecipient programs in compliance with that plan. Further, when FTA last issued the Rural Area Formula Program Circular (C. 9040.1G), FTA made streamlining efforts; for example, commenters were supportive of FTA providing flexibility to states when making minor revisions to the program of projects.

B. Chapter I—Introduction and Background

Chapter I covers general information regarding FTA, FTA's authorizing legislation, Grants.gov, and how to contact FTA; this chapter also includes definitions and acronyms used in the Circular. In Chapter I, FTA proposed a new list of acronyms and their meanings, as well as changes to definitions, particularly those needed for consistency with 49 U.S.C. chapter 53 as amended by the FAST Act and MAP-21, the Uniform Guidance, and TrAMS.

In the proposed Circular, FTA added and amended numerous definitions to align with changes in the law and TrAMS. Some commenters noted defined terms and acronyms that were not included in the text of the document; FTA has reviewed all defined terms and acronyms to ensure all are used in the text of the Circular. Similarly, FTA has added terms (such as “Intelligent Transportation Systems,” “Project Budget”) in response to commenters who noted the terms would make the Circular easier to read.

A number of commenters suggested small edits to some of the definitions, and FTA adopted most of those suggestions. For example, FTA has amended the definition of the term “Rolling Stock Repowering” to clarify that repowering does not require a propulsion system to be replaced with a different type of propulsion system, and amended the definition of the term “Overhaul” to state that it applies to revenue and non-revenue vehicles. Where terms included in the Circular are defined in regulation, FTA has not amended the Circular definition; this includes terms such as “Subrecipient” (2 CFR 200.93) and “Questioned Cost” (2 CFR 200.84). One commenter sought a definition of “non-functional landscaping”; in response, FTA has included examples of functional landscaping in the definition of “Associated Transit Improvement.”

Finally, several commenters expressed concern with the definition of “Capital Asset,” both in reference to proposed text indicating an asset with a useful life of at least one year, and to the value of capital assets, suggesting that no individual asset with an initial value below $50,000 should be deemed capital for FTA purposes or tracked as a unit of equipment. FTA has amended the definition from a useful life of “at least one year” to a useful life of “more than one year.” In addition, FTA has amended the definition for consistency with the Uniform Guidance (2 CFR 200.12) and FTA's Transit Asset Management (TAM) rule (49 CFR 625.5). Notably, the TAM rule requires an inventory of “all capital assets that a provider owns, except equipment with an acquisition value under $50,000 that is not a service vehicle.”

C. Chapter II—Circular Overview

Chapter II covers general information regarding the requirements and procedures for FTA programs, particularly when a program-specific Circular does not discuss a particular issue.

Chapter II lists descriptions of new or revised programs under 49 U.S.C. chapter 53, as amended by the FAST Act and MAP-21. As in Circular 5010.1D, Chapter II then discusses various federal civil rights requirements, such as those pertaining to the Americans with Disabilities Act (ADA), Title VI of the Civil Rights Act of 1964 (Title VI), Equal Employment Opportunity (EEO), and Disadvantaged Business Enterprise (DBE).

The proposed Circular provided updates to Chapter II consistent with changes in the law and FTA policy. FTA has made some edits to this chapter for clarity and ease of reading. In response to comments, FTA had edited the section on Disadvantaged Business Enterprise (DBE), including Transit Vehicle Manufacturers (TVM), and closely reviewed to ensure the Circular text is consistent with the DOT DBE regulations.

D. Chapter III—Administration of the Award

Chapter III provides more detail about administrative requirements that accompany an Award to ensure compliance with 49 U.S.C. chapter 53 and the Uniform Guidance. While Chapter III of the final Circular covers the same information found in Circular 5010.1D, FTA proposed substantial edits to this chapter.

In response to comments, FTA included the stages of the Award Cycle in a bulleted list, in order to provide clarity for readers. In addition, the Department is now using the term “notice of funding opportunity” or NOFO, in place of “notice of funding availability” or NOFA, so FTA has used the acronym “NOFO” in the final Circular.

In section 3, Reporting Requirements, one commenter read the sentence, “FTA's policy for reporting requirements may vary depending on the size of the recipient or the type or amount of federal assistance the recipient receives” as meaning the recipient might be able to negotiate its reporting requirements with FTA. The sentence following the above-quoted sentence is instructive: “The Award may include special reporting requirements.” In other words, there are cases where additional reporting may be required depending on the circumstances; however, the basic reporting requirements apply to all recipients, with some variation as necessary and appropriate, as determined by FTA.

A few commenters had questions about the reporting requirements for transit vehicle manufacturers (TVM). The regulation at 49 CFR 26.49 requires recipients to report to FTA the name of the TVM contractor and the total dollar amount of the contract to FTA within 30 days of entering into a contract for a federally-funded vehicle. FTA has amended the language in the Circular for clarity. One commenter questioned the threshold for reporting under the Federal Funding Accountability and Transparency Act of 2006 (FFATA) (Pub. L. 109-282, Sept. 26, 2006). The threshold for reporting is $25,000, not $25 million as suggested by the commenter.

Throughout Chapter III, FTA has made edits as requested by commenters to ensure consistency, add clarity, and improve readability. Specifically, FTA has edited the section on NTD reporting to include additional information on the small systems waiver, tribal reporting, annual and monthly reports, and safety reports. In addition, FTA has made clarifying edits to the section on modifications to the award, including award budget revisions and amendments to awards; as well as to the section on award closeout.

E. Chapter IV—Management of the Award

Chapter IV includes guidance regarding the management, use, and disposition of FTA assisted assets, including real property and the facilities purchased or constructed thereon, equipment consisting of rolling stock and other items of personal property, and supplies, consistent with 2 CFR part 1201 and 2 CFR part 200. It also addresses the design and construction of facilities in light of amendments to 49 U.S.C. chapter 53.

1. Real Property

One commenter sought clarity on the text related to preliminary discussions and preliminary negotiations related to acquisition of real property. The text in the Circular is clear that preliminary discussions and preliminary negotiations are two different activities.

FTA proposed that the paragraph, “title to real property” require the recipient to include a covenant in the title of the property acquired that assures non-discrimination during the useful life of the property. One commenter suggested this covenant was neither necessary nor customary for commercial real estate transactions. The U.S. DOT Title VI regulation at 49 CFR 21.7 provides, “the instrument effecting or recording the transfer shall contain a covenant running with the land assuring nondiscrimination for the period during which the real property is used for a purpose for which the federal financial assistance is extended or for another purpose involving the provision of similar services or benefits.” There is a similar provision in the Department's Section 504 regulation at 49 CFR 27.9. Therefore, FTA has not amended the language.

Some commenters had questions about real property inventory and reporting, with one commenter recommending the inventory/reporting requirements be removed, as pulling data for property could be time-consuming and expensive. To clarify, the requirement applies only to new federal awards made on or after December 26, 2014. The Excess Real Property and Utilization Plan continues to apply to awards made prior to December 26, 2014. FTA has made clarifying edits to this section.

FTA received several comments related to incidental use of federal assets. The proposed Circular stated that FTA approval would be required for incidental use. One commenter suggested FTA reconsider that proposal; FTA has removed the language and instead the final Circular states the recipient must maintain satisfactory continuing control over the asset, and should consult with FTA before continuing with incidental use. FTA proposed that an incidental use agreement should permit revocation by the recipient. One commenter observed that in its experience, few incidental users would agree to a revocation provision, and suggested FTA strike the language or clarify that a revocation clause may be commercially reasonable under certain circumstances. FTA has accepted the suggestion and added the words, “if commercially feasible” to the provision. Two commenters asked about “no-income incidental use”; in response, FTA has provided examples of no-income use.

One commenter suggested the language on shared use was not clear as to whether a non-transit partner is free to sell or lease the part of the property that the partner is occupying. FTA has added text to this section to be clear that the recipient must maintain satisfactory continuing control of the property.

2. Equipment, Supplies, and Rolling Stock

Section 4 of Chapter IV addresses issues pertaining to the acquisition, use, management, and disposition of equipment and supplies, including rolling stock.

FTA received several comments pertaining to useful life of rolling stock. One commenter suggested the useful life of a trolley should be the same as that of a bus, given they operate in the same environment. The Circular indicates that trolleys with combustion engines do have the same useful life as a bus of similar size. Trolleys that operate on overhead catenaries have a longer useful life as the propulsion system lasts longer than combustion engines. For rebuilt buses, FTA proposed the additional useful life be the remaining useful life at the time of rebuild plus four years. One commenter suggested the extension of useful life be based on the cost of repowering the vehicle, and two commenters suggested that FTA add a mileage option to the useful life, in addition to years. FTA declines to accept the first suggestion, and we have amended the Circular to include “or miles equivalent to four years.”

FTA specifically sought comment on whether the current useful life requirement for buses discourages the consideration of zero emission technology, and if so, what an appropriate useful life requirement for these vehicles should be and/or whether these requirements should change over time as the technology advances. One commenter suggested that FTA consider reassessing its useful life and spare ratio requirements for zero emission vehicles. One commenter suggested that a rigid useful life requirement prevents transit agencies from adopting new technologies when they are first introduced. The commenter suggested that a graduated useful life policy for new technologies would mean that manufacturers would commit to a certain durability, but recipients would have the option to upgrade prior to the end of the useful life of the vehicles they've acquired, as additional technologies become available. FTA did not receive information sufficient to determine another method of determining whether useful life for zero emission technology would be sufficient or appropriate and has retained the current language.

Several commenters addressed zero emission buses and spare ratio requirements. The proposed Circular added the introduction of zero emission vehicles as a reason that an agency would be permitted to maintain their contingency fleet. One commenter noted that at times, it has experienced up to 45 percent of the zero emission fleet out of commission due to mechanical issues, and a 20 percent spare ratio does not fill that gap. Some commenters suggested removing advanced technology vehicles from the spare ratio calculation. Another commenter suggested that, absent a spare ratio policy specifically for zero emission buses, FTA's proposal of permitting agencies to include vehicles that have met their useful life in their contingency fleet if the agency is adding zero emission vehicles into its fleet is a reasonable solution. Another commenter suggested that newer technology should not be considered for the spare ratio until the technology is at least five years old and the industry has an understanding of the durability of the technology. In response to these concerns as well as to a comment requesting additional information on contingency fleets, FTA has added language to clarify the use of vehicles held in a contingency fleet. In addition, FTA has retained language from the proposed Circular that permits an agency to seek a spare ratio deviation from FTA for no more than two (2) years.

Similarly, some commenters requested the spare ratio be increased to 25 percent and increased proportionally for fleets with an average vehicle age exceeding 12 years or an average vehicle mileage greater than 500,000. There may be situations in which a recipient may want to seek a spare ratio deviation from FTA, or keep vehicles in a contingency fleet, and the final Circular provides guidance on these issues.

Several small operators had questions about spare ratio requirements for smaller fleets. The proposed Circular stated that the spare ratio requirement of 20 percent applies to recipients operating 50 or more fixed route buses in peak service, but was silent as to the ratio requirement for operators with fewer than 50 fixed route buses in peak service. FTA does not set a specific spare ratio for smaller operators, but expects the number of spare buses to be reasonable taking into account the number of vehicles and variety of vehicle types and sizes. We have added this information to the final Circular for clarity.

3. Remanufactured Vehicles

Almost every commenter to the docket commented on FTA's proposals related to remanufactured vehicles. Generally, commenters objected to FTA including this information in a Circular; asserted that remanufactured vehicles should not be subject to bus testing, useful life, and other requirements that apply to new vehicles; and asserted that remanufactured vehicles have already undergone testing, proven reliable over the years, and have provided value, particularly to smaller transit providers. Commenters asserted that FTA's efforts to define the remanufacturing process limits the manufacturer's ability to control the cost of the remanufacturing process, and that requiring remanufactured vehicles to comply with new bus requirements would diminish the cost and time savings in the remanufacturing process, and likely eliminate remanufactured buses as a viable option.

FTA's previous Grant Management Requirements Circular did not specifically address requirements for the purchase of previously-owned and/or remanufactured vehicles purchased from a third party. As the remanufactured vehicle market has developed, FTA has received questions from recipients on what requirements apply to the acquisition of these vehicles if using FTA funding. As the previous Circular applied Buy America, useful life, and Bus Testing requirements to the acquisition of vehicles in general, unless FTA provided for otherwise, those requirements would have applied to the acquisition of all vehicles whether new or previously owned.

While FTA will continue to study the issue, FTA has modified its requirements in the final Circular to provide guidance for these procurements without proscribing specific performance characteristics. For clarification, FTA has added a definition of previously-owned vehicles and modified its definition of remanufactured vehicles to be a subset of previously-owned vehicles. FTA has added language permitting funds to be used to purchase previously-owned vehicles that had previously met FTA's Bus Testing and Buy America requirements. Recipients are required to identify their intent to purchase previously-owned vehicles and identify the proposed useful life in their procurement. As part of the bid or proposal the recipient is required to obtain from the vendor certification and documentation ascertaining that applicable Bus Testing and Buy America requirements have been met by the original owner.

Additionally, for remanufactured vehicles, the remanufacturer would need to demonstrate compliance with Buy America and DBE TVM requirements. No additional bus testing would be required for the remanufactured vehicles.

Further, FTA has not added any new requirements for bus overhauls or bus rebuilds for work on buses a recipient already owns, whether or not the work is done by the recipient or contracted.

4. Other

FTA proposed a number of changes to the section on capital leases, in accordance with changes to the law pursuant to the FAST Act. One commenter suggested that the organization of the provisions in the proposed Circular was confusing and did not clearly indicate when FTA's capital leasing regulation, 49 CFR part 639, applies and when it doesn't, nor did it adequately explain when section 3019 of the FAST Act applies. Another commenter asked for specificity related to the applicability of 49 CFR part 639. FTA has amended the text of the final Circular to clarify these matters.

Several commenters had questions and suggestions related to disposition of assets. One commenter asked about disposal costs of assets that have become liabilities, as when a bus or railcar is at the end of or past its useful life and there is no buyer for the asset. Disposal of assets is considered an operating cost and thus may be an eligible expense for recipients in small urbanized or rural areas. Often, these assets do have a salvage value that can offset transportation and disposal costs. To the extent there remains a federal interest in the asset disposed of, the final Circular provides that a recipient may subtract $500 or ten percent of the proceeds, whichever is less, for selling and handling expenses, from the amount due to FTA.

For calculating the federal interest in an asset, one commenter requested information on how fair market value is determined. Generally, fair market value is determined by the value an unrelated party is willing to pay for an asset. This may be obtained by advertising the asset for sale, seeking an estimate from dealers, published values for assets (e.g., blue book value), prior experience in valuation of similar assets, selling the asset for scrap, or any reasonable means the recipient has to access to in order to determine the remaining value of the asset.

Section 5 of Chapter IV provides information on design and construction of facilities, sets forth references to major environmental laws and regulations that affect the design and construction of facilities, and clarifies force account requirements.

One commenter objected to language in the proposed Circular stating that recipients agree to comply with FTA “recommendations and determinations” pertaining to its review of construction plans and specifications, given the recipient is responsible for managing the Award. The commenter asserted the language suggests FTA would take full control of the Award. Similarly, the commenter suggested that language providing the FTA regional office should be consulted to determine whether FTA review is necessary to advance the Award to the next level of design could delay Awards. Importantly, the text does not state that FTA will manage or take control of the Award. However, there may be instances in which FTA or its contractors observe a situation that must be addressed, such as a failure to comply with the law. Thus, FTA has not amended the language in the final Circular.

FTA received two comments related to force accounts: one commenter asked whether a force account plan is required for preventive maintenance, and one commenter asked whether the requirement for force account plans was subject to the Paperwork Reduction Act. First, a force account plan is not required for preventive maintenance. Second, FTA has paperwork collection approvals for all of its federal assistance programs. Paperwork submissions and recordkeeping requirements are captured in those approvals.

In addition to the changes described above, FTA made minor edits to the text of Chapter IV for clarity.

F. Chapter V—FTA Oversight

Chapter V includes guidance regarding the various types of reviews that FTA conducts. Reviews are grouped in the following categories: (1) Program Oversight, (2) Safety Oversight, and (3) Project Oversight.

FTA received one comment related to Chapter V. The commenter asked if FTA intended to use the term “project sponsor” instead of “recipient.” In response, FTA edited the text to state, “project sponsor or recipient.” In addition, FTA made minor, clarifying edits to this chapter.

G. Chapter VI—Financial Management

Chapter VI includes guidance regarding internal controls, non-federal share, financial plan, federal principles for determining allowable costs, indirect costs, program income, annual audit, payment procedures, de-obligation of federal assistance, debt service reserve, and the right to terminate.

Farebox Revenues is discussed in the Program Income section of Chapter VI, found at section 7(i). For purposes of operating assistance grants, farebox revenues are deducted from the eligible operating expenses to derive the “net project cost.” The question regarding FTA's treatment of farebox revenues for recipients of capital assistance arose in light of the proposed definition of program income in proposed FTA Circular 5010.1E. Although FTA Circular 5010.1D does not discuss the relationship, if any, between program income and farebox revenue, the proposed Circular 5010.1E included explicit language listing farebox revenue as a type of program income. Whereas Circular 5010.1D allowed program income to be spent “for public transportation purposes,” the proposed Circular permits program income to be spent only on allowable costs. Under Circular 5010.1D, there are no federal requirements governing the disposition of program income earned after the end of the period of performance (i.e., after the ending date of the final Federal Financial Report), unless the terms of the agreement or the federal agency regulations provide otherwise. In proposed Circular 5010.1E, FTA has included an exception to this general rule for farebox revenue states that farebox revenue retains its status as program income after the close of the Award. FTA has made edits to Chapter VI to withdraw these changes and clarify these points.

FTA received several comments related to indirect costs. One commenter noted that the discussion of indirect costs in section 6 of Chapter VI contained a different definition than that found in the definitions section of Chapter I. Specifically, the text in Chapter VI contains additional language relating to states and local governments and Cost Allocation Plans found in 2 CFR 200.416. We have clarified the language in Chapter VI.

One commenter suggested that FTA clarify that cost allocation plans will not apply to every recipient. The commenter also suggested that FTA clarify that indirect cost proposals and cost allocation plans are separate documents. FTA has made edits to Chapter VI to clarify these points.

One commenter indicated that reporting indirect costs on a cumulative basis in the Federal Financial Report (FFR) would require adding many lines to the FFR. Further, the commenter noted that indirect costs currently are not reported for subrecipients. In response, FTA agrees that cumulative reporting will add lines to the FFR. However, indirect cost rates should be reported for the reporting agency, not for subrecipients. Documentation and reporting on subawards and contractual indirect cost rates should be maintained by the recipient and collected as part of its subrecipient monitoring. We have made edits to Appendix B to provide additional guidance to recipients for this reporting requirement. In addition, a commenter suggested that the requirement to identify the indirect cost rate as a separate budget line item “would require recipients to provide a level of budget detail that will be impossible to meet.” The commenter asserted that many Awards contain multiple projects, and many projects are funded by multiple Awards. However, the indirect cost rate should be the same across multiple Awards and multiple projects, as indirect cost rates are not determined on an Award by Award or project by project basis.

H. Appendices

As stated in the summary under Chapter VI, FTA has amended Appendix B, Federal Financial Report, for clarity in reporting indirect costs.

FTA has reversed the order of proposed Appendices F and G, such that now Appendix F is Cost Allocation Plans and Appendix G is Indirect Cost Rate Proposals.

FTA struck proposed Appendix J, “Award Amendments and Budget Revision Guidelines,” as the information is otherwise available on FTA's Web site at https://www.transit.dot.gov/trams.

In addition to the above, FTA made minor, clarifying edits to the appendices.

Carolyn Flowers,
Acting Administrator.

[FR Doc. 2017-00728 Filed 1-12-17; 8:45 am]

BILLING CODE 4910-57-P